DEPARTMENT OF DEFENSE

Department of the Air Force

Record of Decision for the Second Main Operating Base KC-46A Beddown at Alternative Air National Guard Installations

ACTION: Notice of Availability (NOA) of a Record of Decision (ROD).

SUMMARY: On August 5, 2014, the United States Air Force signed the ROD for the Second Main Operating (MOB-2) Base KC-46A Beddown at Alternative Air National Guard (ANG) Installations Final Environmental Impact Statement (FEIS). The ROD states the Air Force decision to implement the Preffered Alternative to beddown up to twelve (12) KC-46A Primary aircraft authorized (PAA) under the National Guard Bureau for MOB-2 at Pease Air National Guard Station.

The decision was based on matters discussed in the FEIS, inputs from the public and regulatory agencies, and other relevant factors. The FEIS was made available to the public on June 20, 2014 through a NOA in the Federal Register (Volume 79, Number 119, Page 35347) with a wait period that ended on July 20, 2014. The ROD documents only the decision of the Air Force with respect to the proposed Air Force actions analyzed in the FEIS. Authority: This NOA is published pursuant to the regulations (40 CFR 1506.6) implementing the provisions of the NEPA of 1969 (42 U.S.C. 4321, et seq.) and the Air Force's Environmental Impact Analysis Process (EIAP) (32 CFR 989.21(b) and 989.24(b)(7)).

FOR FURTHER INFORMATION CONTACT: Mr. Kevin Marek, NGB/A7AM, 3501 Fetchet Avenue, JB Andrews, MD 20762, ph: 240/612-8855.

Henry Williams,
Acting Air Force Federal Register Liaison Officer.

[FR Doc. 2014-19126 Filed 8-12-14; 8:45 am]

BILLING CODE 5001-10-P